DEPARTMENT OF HEALTH AND HUMAN SERVICES

Office of the Secretary

Agency Information Collection Activities: Proposed Collections; Comment Request

The Department of Health and Human Services, Office of the Secretary will periodically publish summaries of proposed information collections projects and solicit public comments in compliance with the requirements of Section 3506(c)(2)(A) of the Paperwork Reduction Act of 1995. To request more information on the project or to obtain a copy of the information collection plans and instruments, call the OS Reports Clearance Officer on (202) 690-6207.

Comments are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology.

Proposed Project 1

Protection of Human Subjects: Quality Assurance Self-Assessment Tool—NEW—The Office of Human Research Protections is establishing a new Quality Improvement Program (QIP) for human subjects protection programs of institutions and independent Institutional Review Boards to cooperatively work toward the strengthening of these programs. A major component of QIP will be the Quality Assurance Self-Assessment Tool, a voluntary mechanism which may be used by institutions to assure compliance with Federal regulations and assess a program's strengths and weaknesses. The information will be used by OHRP to identify technical assistance needs. Respondents: Businesses or other for-profit, non-profit institutions; State, Local or Tribal governments; Federal government; Annual Number of Respondents: 720; Burden per Response: 2 hours; Total Burden: 1,440 hours.

Please send comments to Cynthia Agens Bauer, OS Reports Clearance Officer, Room 503H, Humphrey Building, 200 Independence Avenue SW, Washington, DC 20201. Written comments should be received within 60 days of this notice.

Dated: April 26, 2002.
Kerry Weems,
Acting Deputy Assistant Secretary, Budget.

[FR Doc. 02-11428 Filed 5-7-02; 8:45 am]

BILLING CODE 4150-28-M